SMALL BUSINESS ADMINISTRATION

[Disaster Declaration #20299 and #20300; KANSAS Disaster Number KS-20004]

Presidential Declaration Amendment of a Major Disaster for Public Assistance Only for the State of Kansas

AGENCY: U.S. Small Business Administration.

ACTION: Amendment 1.

SUMMARY: This is an amendment of the Presidential declaration of a major disaster for Public Assistance Only for the State of Kansas (FEMA-4774-DR), dated 04/28/2024.

Incident: Severe Winter Storm.

Incident Period: 01/08/2024 through 01/16/2024.

DATES: Issued on 06/27/2024.

Physical Loan Application Deadline Date: 06/27/2024.

Economic Injury (EIDL) Loan Application Deadline Date: 01/28/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Kansas, dated 04/28/2024, is hereby amended to include the following areas as adversely affected by the disaster.

Primary Counties: Marion.

All other information in the original declaration remains unchanged.

(Catalog of Federal Domestic Assistance Number 59008)

Rafaela Monchek,
Acting Associate Administrator, Office of Disaster Recovery & Resilience.

[FR Doc. 2024-14770 Filed 7-3-24; 8:45 am]

BILLING CODE 8026-09-P